DEPARTMENT OF HOUSING AND URBAN DEVELOPMENT

[Docket No. FR-5932-N-01]

Request for Specific Policy Proposals and Methods of Research and Evaluation for MTW Demonstration Expansion

AGENCY: Office of the Assistant Secretary for Public and Indian Housing, and Office of the Assistant Secretary for Policy Development and Research, HUD.

ACTION: Notice.

SUMMARY: This notice is to solicit recommendations for specific policy proposals and methods of research and evaluation to be implemented as part of the expansion of the Moving to Work (MTW) demonstration program. The 2016 Consolidated Appropriations Act (the Act) authorizes HUD to expand the MTW demonstration program by an additional 100 high performing Public Housing Agencies over a period of seven years.¹ Agencies will be added to the MTW demonstration by cohort and the Act requires that for each cohort of agencies “the Secretary shall direct one specific policy change to be implemented by the agencies.” Having an entire cohort adopt a specific policy will facilitate the evaluation of that policy.

¹ Pub. Law 114-113, Sec. 239.

DATES: Comments Due Date: May 4, 2016.

ADDRESSES: Interested persons are invited to submit comments regarding specific policy and evaluation proposals to the Moving to Work Office, Office of Public and Indian Housing, Department of Housing and Urban Development, 451 Seventh Street, SW., Room 4130, Washington, DC 20410-0001 or email at mtw-info@hud.gov. HUD strongly encourages commenters to submit comments electronically. Communications must refer to the above docket number and title and should contain the information specified in the “Request for Public Comments” section.

No Facsimile Comments. Facsimile (FAX) comments are not acceptable.

Public Inspection of Public Comments. A summary of all comments received by HUD will be made available on HUD's Web site at: http://www.hud.gov/mtw.

FOR FURTHER INFORMATION CONTACT: Questions concerning this notice should be directed to the Moving to Work Office, Office of Public and Indian Housing, Department of Housing and Urban Development at mtw-info@hud.gov.

SUPPLEMENTARY INFORMATION:

I. Background

The statutory purpose ² of the MTW demonstration is to give agencies and HUD the flexibility to design and test various approaches for providing and administering housing assistance that:

² Congress originally authorized the MTW demonstration in 1996 (Pub. Law 104-134; 42 U.S.C. 1437f note).

(1) reduce cost and achieve greater cost effectiveness in federal expenditures;

(2) give incentives to families with children where the head of household is working; is seeking work; or is preparing for work by participating in job training, educational programs, or programs that assist people to obtain employment and become economically self-sufficient; and

(3) increase housing choices for eligible low-income families.

Agencies will be added to the MTW demonstration by cohort and per the Act: “the Secretary shall direct one specific policy change to be implemented by the agencies, and with the approval of the Secretary, such agencies may implement additional policy changes.”

As part of the process to expand the MTW demonstration, the Act states that “[t]he Secretary shall establish a research advisory committee which shall advise the Secretary with respect to specific policy proposals and methods of research and evaluation for the demonstration.” Through this Notice, HUD is requesting specific policy proposal recommendations, and methods for research and evaluation recommendations, that will inform the advisory committee in making its own recommendations to the Secretary.

With the expansion of the MTW demonstration, HUD aims to learn from MTW interventions in order to improve the delivery of federally assisted housing and promote self-sufficiency for low-income families across the country.

II. Request for Public Comments

HUD seeks public comments on specific policy proposal recommendations, and research and evaluation proposal recommendations, as described in sections II.A and II.B below. Public housing agencies, HUD-assisted housing residents, researchers, and HUD stakeholders are encouraged to submit comments.

A. Specific Policy Proposal Recommendations

HUD seeks specific policy proposal recommendations related to the three MTW demonstration statutory objectives of cost effectiveness, self-sufficiency, and housing choice. For example, HUD is interested in specific policy areas such as:

• Increasing moves of low-income families to high-opportunity neighborhoods;

• Improving education outcomes through housing partnerships;

• Using administrative flexibilities to reduce costs and improve operations, governance, and financial management;

• Structuring alternative rent-setting methods;

• Streamlining admissions and/or occupancy policies (i.e., work requirements, time limits, waitlist preference alterations);

• Developing strategies to better utilize project-based vouchers;

• Improving the health and well-being of elderly and disabled residents;

• Achieving the goal of ending homelessness for families, veterans, youth, and the chronically homeless; and

• Cultivating supportive or sponsor-based housing policies.

B. Research and Evaluation Proposal Recommendations

HUD also seeks recommendations for research and evaluation methods to be utilized in association with specific policy proposals that will be implemented by MTW agencies in the expanded MTW demonstration. The Act specifically requires that rigorous research methods be used to test the policy proposals. HUD seeks specific proposals of what the committee should consider as rigorous research in addition to randomized control trials. In addition, the law calls for the advisory committee to recommend what policies already are proven effective and could be implemented without further research. HUD seeks comment on what policies should be considered as having already been proven successful, with specific reference to the rigorous research that supports the claim.

Dated: March 28, 2016.
Lourdes Castro Ramírez,
Principal Deputy Assistant Secretary for Public and Indian Housing.
Katherine M. O'Regan,
Assistant Secretary for Policy Development and Research.

[FR Doc. 2016-07663 Filed 4-1-16; 8:45 am]

BILLING CODE 4210-67-P